DEPARTMENT OF COMMERCE

International Trade Administration

[A-471-807]

Certain Uncoated Paper From Portugal: Final Results of Antidumping Duty Administrative Review; 2015-2017

AGENCY: Enforcement and Compliance, International Trade Administration, Department of Commerce.

SUMMARY: The Department of Commerce (Commerce) determines that certain uncoated paper (uncoated paper) from Portugal is being, or is likely to be sold, at less than normal value during the period of review (POR), August 26, 2015, through February 28, 2017.

DATES: Applicable August 13, 2018.

FOR FURTHER INFORMATION CONTACT: Carrie Bethea, AD/CVD Operations, Office V, Enforcement and Compliance, International Trade Administration, U.S. Department of Commerce, 1401 Constitution Avenue NW, Washington, DC 20230; telephone: (202) 482-1491.

SUPPLEMENTARY INFORMATION:

Scope of the Order

The product covered by this review is uncoated paper from Portugal. For a full description of the scope, see the Issues and Decision Memorandum dated concurrently with and hereby adopted by this notice.¹

¹ See Memorandum, “Decision Memorandum for the Preliminary Results of Antidumping Duty Administrative Review: Certain Uncoated Paper from Portugal; 2015-2017,” dated concurrently with this notice (Preliminary Decision Memorandum).

Analysis of Comments Received

All issues raised in the case and rebuttal briefs by parties to this administrative review are addressed in the Issues and Decision Memorandum.² A list of the issues that parties raised and to which we responded is attached to this notice as an Appendix. The Issues and Decision Memorandum is a public document and is on-file electronically via Enforcement and Compliance's Antidumping and Countervailing Duty Centralized Electronic Service System (ACCESS). ACCESS is available to registered users at https://access.trade.gov and in the Central Records Unit (CRU), room B8024 of the main Department of Commerce building. In addition, a complete version of the Issues and Decision Memorandum can be accessed directly on the internet at http://enforcement.trade.gov/frn/index.html. The signed Issues and Decision Memorandum and the electronic versions of the Issues and Decision Memorandum are identical in content.

² See Memorandum, “Certain Uncoated Paper from Portugal: Issues and Decision Memorandum for the Final Results of the Antidumping Duty Administrative Review; 2015-2017,” dated concurrently with, and hereby adopted by, this notice (Issues and Decision Memorandum).

Changes Since the Preliminary Results

Based on a review of the record and comments received from interested parties, we have recalculated The Navigator Company, S.A.'s (Navigator) weighted-average dumping margin using facts otherwise available for Navigator's home market bonus discounts and facts otherwise available with an adverse inference for certain of Navigator's U.S. brokerage and handling expenses. For further discussion, see the Issues and Decision Memorandum.

Final Results of the Review

We determine that, for the period of March 1, 2016, through February 28, 2017, the following weighted-average dumping margin exists:

Exporter/producer | Weighted-average dumping margin (percent)
The Navigator Company, S.A. | 37.34

Duty Assessment

Commerce shall determine, and U.S. Customs and Border Protection (CBP) shall assess, antidumping duties on all appropriate entries covered by this review.

In accordance with Commerce's “automatic assessment” practice, for entries of subject merchandise during the POR produced by Sidenor for which it did not know that the merchandise was destined for the United States, we will instruct CBP to liquidate those entries at the all-others rate if there is no rate for the intermediate company(ies) involved in the transaction.

We intend to issue instructions to CBP 15 days after the publication date of the final results of this review.

Cash Deposit Requirements

The following cash deposit requirements will be effective upon publication of the notice of final results of administrative review for all shipments of the subject merchandise entered, or withdrawn from warehouse, for consumption on or after the publication date of the final results of this administrative review, as provided by section 751(a)(2)(C) of the Act: (1) The cash deposit rate for Navigator will be the rate established in the final results of this administrative review; (2) for merchandise exported by producers or exporters not covered in this administrative review but covered in a prior segment of the proceeding, the cash deposit rate will continue to be the company-specific rate published for the most recently completed segment of this proceeding; (3) if the exporter is not a firm covered in this review, a prior review, or the original investigation, but the producer is, the cash deposit rate will be the rate established for the most recently completed segment of this proceeding for the producer of the subject merchandise; and (4) the cash deposit rate for all other manufacturers or exporters will continue to be 7.80 percent, the all-others rate established in the investigation.³ These cash deposit requirements, when imposed, shall remain in effect until further notice.

³ See Certain Uncoated Paper from Portugal: Final Determination of Sales at Less than Fair Value and Final Negative Determination of Critical Circumstances, 81 FR 3105 (January 20, 2016).

Notification to Importers

This notice also serves as a final reminder to importers of their responsibility under 19 CFR 351.402(f)(2) to file a certificate regarding the reimbursement of antidumping duties prior to liquidation of the relevant entries during this POR. Failure to comply with this requirement could result in the Secretary's presumption that reimbursement of antidumping and/or countervailing duties occurred and the subsequent assessment of doubled antidumping duties.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

We are issuing and publishing this notice in accordance with sections 751(a)(1) and 777(i)(1) of the Act and 19 CFR 351.213(h).

Dated: August 6, 2018.
James Maeder,
Associate Deputy Assistant Secretary for Antidumping and Countervailing Duty Operations, performing the duties of Deputy Assistant Secretary for Antidumping and Countervailing Duty Operations.

Appendix

List of Topics Discussed in the Final Decision Memorandum

I. Summary

II. List of Comments

III. Background

IV. Scope of the Order

V. Use of Facts Otherwise Available and Adverse Inferences

VI. Discussion of Comments

Comment 1: Commerce's Liquidation Instructions

Comment 2: Navigator's Allocated U.S. Brokerage and Handling

Comment 3: Navigator's Home Market Bonus Discounts

Comment 4: Navigator's Reporting of Home Market Indirect Selling Expenses

VII. Recommendation

[FR Doc. 2018-17294 Filed 8-10-18; 8:45 am]

BILLING CODE 3510-DS-P